ENVIRONMENTAL PROTECTION AGENCY

[FRL-7501-1]

Notice of Extension of Public Comment Period for Development of a National Agenda for the Environment and the Aging

AGENCY: Environmental Protection Agency (EPA).

ACTION: Notice of extension of public comment period.

SUMMARY: In October 2002 EPA launched an Aging Initiative to study the effects of environmental health hazards on older persons and examine the impact that a rapidly aging population will have on the environment. The Initiative will also identify model programs that will provide opportunities for older persons to volunteer in their communities to reduce environmental hazards and protect the environment for future generations.

DATES: On March 4, 2003 (68 FR 10238) EPA published a notice seeking public comment on the National Agenda on the Environment and the Aging with a deadline of May 16, 2003. EPA has extended the deadline for public comments through Tuesday, September 30, 2003.

FOR FURTHER INFORMATION CONTACT: Kathy Sykes, EPA's Aging Initiative Coordinator, at (202) 564-2188 or by email: aging.info@epa.gov.

SUPPLEMENTARY INFORMATION:

I. Identifying Research Gaps in Environmental Health

Strategy To Address Environmental Hazards That Threaten the Health of Older Persons: Research and Educational Priorities

The National Agenda for the Environment and the Aging will lay out a strategy that combines research and educational programs that promote preventive actions to address environmental health hazards. One fundamental question is: How do environmental hazards affect older persons differently from younger persons? Understanding the biology underlying differing age-related responses can inform a scientific rationale for decisions on how to appropriately incorporate the differential sensitivity of those who are aging into environmental risk assessment, decisions and actions.

EPA's effort to develop a national agenda to address environmental issues that affect the health and well-being of the nation's older persons has been advanced by a workshop on the “Differential Susceptibility and Exposure of Older Persons to Environmental Hazards” convened by the National Academy of Sciences in December 2002. At that meeting, experts discussed priority issues for the National Agenda for the Environment and the Aging. Experts focused on exposures to environmental hazards found in drinking water, indoor and outdoor air, and food residues that may have health effects including respiratory and cardiopulmonary disease, neurotoxicity, infectious disease and cancer.

EPA invites public comments on environmental hazards that may affect the health of older persons in states and local communities. Among questions which may be considered are:

What specific environmental exposures in your community particularly affect the health of older persons?

Which health conditions specific to older adults may increase their susceptibility to chemical toxicants?

Which lifestyle factors of older adults may increase the exposure to environmental hazards?

What steps may individuals and communities take to reduce the potential environmental health risks that older adults may face?

II. Preparing for an Aging Society

Impact of an Aging Population on the Environment

The EPA invites comments on the extent to which an aging population may affect the environment. The nation's demographics will have changed dramatically by 2030: the U.S. population over 65 years of age is expected to double. The largest cohort born in U.S. history (76 million Americans were born between 1946 and 1964) begins to turn 65 in 2011 and will markedly influence the quality of life for both older persons and young people. The National Agenda will focus on the interface between older persons and their environment.

As an increasing number of adults approach retirement age, migration may substantially increase to areas characterized by temperate climates, lower population and traffic density, and better environmental quality. These areas may be sparsely populated and ecologically diverse regions. To ensure harmony between the needs of this growing population and preserving important natural resources, it is important to have the tools available for regional and landscape planning. The EPA invites comments on the extent to which an aging population has unique needs with respect to housing, transportation, health care, recreation, and other quality of life issues, and how these needs may affect the environment. Issues which may be considered include:

What can city, county and regional planners do to meet the needs of today's older adults and prepare for the anticipated increase in the number of retirees and at the same time enhance preservation of natural resources for recreation, wildlife, water, air and land quality?

Can you identify unique resource needs and utilization patterns of older adults that may generate novel ecological pressures?

What steps can individual baby boomers and older adults take to not only reduce potential hazards to the environment but also preserve and enhance the quality of the environment for themselves and future generations?

III. Encouraging Older Adults To Volunteer To Reduce Environmental Hazards

Opportunities for Older Persons To Enhance the Environment and Their Health

The National Agenda will not only identify strategies to protect the quality of life for older persons from environmental hazards, but also suggest ways to engage the nation's older persons in programs and strategies designed to enhance the environment for all generations.

Many older Americans contribute their time, energy and expertise to protect their environment and educate their communities about environmental hazards to citizens and threats to natural resources. The EPA intends to encourage further involvement and expand opportunities for older persons to volunteer in programs designed to lessen environmental hazards. Programs or activities that are of interest include activities that increase awareness of environmental hazards, and preserve the quality of the environment for today and tomorrow's citizens. The EPA welcomes comments on encouraging older adults to volunteer to reduce environmental hazards in their communities. Among the questions to which the EPA invites comments are the following:

Which volunteer programs that address environmental hazards in your community warrant examination for possible replication in other communities?

What incentives are needed to encourage older persons to volunteer their time and ideas to protect the environment, reduce environmental hazards and enhance the health of and the environment for people of all ages?

In an effort to raise awareness of environmental factors important to all citizens, how can older persons serve as models of good practice and mentors for younger generations about environmental hazards found in the community?

In your community or state, what intergenerational environmental projects have been successful in improving the health of children or older persons?

What potential barriers exist to volunteering in your community to reduce environmental hazards?

Public comments will be accepted until Tuesday, September 30, 2003.

(1) To submit written comments, please send them by mail or hand deliver to: EPA's Aging Initiative, Mail Code 1107A, 1200 Pennsylvania Avenue, NW., Room 2512 Ariel Rios North, Washington, DC 20460, or

(2) Fax comments to: National Agenda for the Environment and the Aging (202) 564-2733, or

(3) E-mail comments to: aging.info@epa.gov.

Dated: May 13, 2003.
Joanne Rodman,
Acting Director, Office of Children's Health Protection.

[FR Doc. 03-12618 Filed 5-19-03; 8:45 am]

BILLING CODE 6560-50-P